ADVISORY COUNCIL ON HISTORIC PRESERVATION

Notice of Meeting

AGENCY: Advisory Council on Historic Preservation

SUMMARY: Notice is hereby given that the Advisory Council on Historic Preservation will meet on Friday, June 23, 2000. The meeting will be held in the Appropriations Committee Hearing Room, Room 228, The State House, State Street, Augusta, Maine, Beginning at 8:30 a.m.

The Council was established by the National Historic Preservation Act of 1966 (U.S.C. Section 470) to advise the President and the Congress on matters relating to historic preservation and to comment upon Federal, federally assisted, and federally licensed undertakings having an effect upon properties listed in or eligible for inclusion in the National Register of Historic Places. The Council's members are the Architect of the Capitol; the Secretaries of the Interior, Agriculture, Housing and Urban Development, and Transportation; the Administrators of the Environmental Protection Agency and General Services Administration; the Chairman of the National Trust for Historic Preservation; the President of the National Conference of State Historic Preservation Officers; a Governor; a Mayor; a Native Hawaiian; and eight non-Federal members appointed by the President.

The agenda for the meeting includes the following:

I. Chairman's Welcome

II. Chairman's Report

III. Millennium Discussion

A. Follow up from Thursday's Lighthouse Tour—Action

B. Council Millennium Report on Federal Stewardship: Primary Findings and Recommendations—Action

C. Proposed Executive Order on Federal Stewardship: Working Draft—Action

D. Task Force on Balancing Cultural and Natural Values in National Parks—Action

IV. Tribal Issues

A. Proposed Council Policy Regarding Tribal Relations—Action

B. Narragansett Section 106 Substitution Agreement—Report

V. Executive Director's Report

A. Lawsuit on Section 106 Regulations—Report

B. Follow up from March Council Actions—Report

C. Los Alamos Fire Damage—Report and Possible Action

D. A Citizen's Guide to Section 106 Review—Report

VI. New Business

A. Foreclosure of Council's Opportunity to Comment—Corps of Engineer's Civil Works

B. Proposal to Recognize Federal Preservation Policy Leaders—Action

VII. Adjourn

Note: The meetings of the Council are open to the public. If you need accommodations due to a disability, please contact the Advisory Council on Historic Preservation, 1100 Pennsylvania Ave., NW., Room 809, Washington, D.C., 202-606-8503, at least seven (7) days prior to the meeting.

FOR FURTHER INFORMATION CONTACT: Additional information concerning the meeting is available from the Executive Director, Advisory Council on Historic Preservation, 1100 Pennsylvania Ave., NW., #809, Washington, DC 20004.

Dated: June 7, 2000.
John M. Fowler,
Executive Director.

[FR Doc. 00-14765 Filed 6-9-00; 8:45 am]

BILLING CODE 4310-10-M